ENVIRONMENTAL PROTECTION AGENCY

40 CFR Part 52

[FL-93-200318 (b); FRL-7491-6]

Approval and Promulgation of Implementation Plans, Florida: Martin Gas Sales, Inc., Variance

AGENCY: Environmental Protection Agency (EPA).

ACTION: Proposed rule.

SUMMARY: The EPA is proposing to approve revisions to the State Implementation Plan (SIP) submitted by the Florida Department of Environmental Protection on January 17, 2003. The proposed revision consists of a department order granting a variance from rule 62-212.600(2)(c), F.A.C., to Martin Gas Sales, Inc., in Hillsborough County, Florida.

In the Final Rules section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before June 2, 2003.

ADDRESSES: All comments should be addressed to: Heidi LeSane at the Environmental Protection Agency, Region 4 Air Planning Branch, 61 Forsyth Street, SW., Atlanta, Georgia 30303-8960.

FOR FURTHER INFORMATION CONTACT: Environmental Protection Agency, Region 4, Air Planning Branch, 61 Forsyth Street, SW., Atlanta, Georgia 30303-8960. Heidi LeSane, 404/562-9035 lesane.heidi@epa.gov.

SUPPLEMENTARY INFORMATION: For additional information see the direct final rule which is published in the Rules section of this Federal Register.

Dated: April 18, 2003.
A. Stanley Meiburg,
Acting Regional Administrator, Region 4.

[FR Doc. 03-10756 Filed 4-30-03; 8:45 am]

BILLING CODE 6560-50-P